DEPARTMENT OF HOMELAND SECURITY

Coast Guard

[USCG 2003-15169]

Collection of Information Under Review by Office of Management and Budget (OMB): OMB Control Numbers 1625-0039 (Formerly 2115-0506), 1625-0038 (Formerly 2115-0505), 1625-0066 (Formerly 2115-0595), and 1625-0012 (Formerly 2115-0042)

AGENCY: Coast Guard, DHS.

ACTION: Request for comments.

SUMMARY: In compliance with the Paperwork Reduction Act of 1995, the Coast Guard intends to seek the approval of OMB for the renewal of four Information Collection Requests (ICRs). The ICRs comprise Declaration of Inspection Before Transfer of Liquid Cargo in Bulk, Plan Approval and Records for Tank, Passenger, Cargo, and Miscellaneous Vessels, Mobile Offshore Drilling Units, Nautical School Vessels, Oceanographic Research Vessels, and Electrical Engineering—46 CFR subchapters D, H, I, I-A, J, R, and U, Vessel Response Plans, Facility Response Plans, Shipboard Oil Pollution Emergency Plans, and Additional Response Requirements for Prince William Sound, and Certificate of Discharge to Merchant Mariners. Before submitting the ICRs to OMB, the Coast Guard is inviting comments on them as described below.

DATES: Comments must reach the Coast Guard on or before July 28, 2003.

ADDRESSES: To make sure that your comments and related material do not enter the docket (USCG 2003-15169) more than once, please submit them by only one of the following means:

(1) By mail to the Docket Management Facility, U.S. Department of Transportation (DOT), room PL-401, 400 Seventh Street, SW., Washington, DC 20590-0001. Caution: Because of recent delays in the delivery of mail, your comments may reach the Facility more quickly if you choose one of the other means described below.

(2) By delivery to room PL-401 on the Plaza level of the Nassif Building, 400 Seventh Street, SW., Washington, DC, between 9 a.m. and 5 p.m., Monday through Friday, except Federal holidays. The telephone number is 202-366-9329.

(3) By fax to the Facility at 202-493-2251.

(4) Electronically through the Web Site for the Docket Management System at http://dms.dot.gov.

The Facility maintains the public docket for this notice. Comments and material received from the public, as well as documents mentioned in this notice as being available in the docket, will become part of this docket and will be available for inspection or copying at room PL-401 on the Plaza level of the Nassif Building, 400 Seventh Street, SW., Washington, DC, between 9 a.m. and 5 p.m., Monday through Friday, except Federal holidays. You may also find this docket on the Internet at http://dms.dot.gov.

Copies of the complete ICRs are available through this docket on the Internet at http://dms.dot.gov, and also from Commandant (G-CIM-2), U.S. Coast Guard Headquarters, room 6106 (Attn: Barbara Davis), 2100 Second Street, SW., Washington, DC 20593-0001. The telephone number is 202-267-2326.

FOR FURTHER INFORMATION CONTACT: Barbara Davis, Office of Information Management, 202-267-2326, for questions on this document; or Dorothy Beard, Chief, Documentary Services Division, U.S. Department of Transportation, 202-366-5149, for questions on the docket.

Request for Comments

The Coast Guard encourages interested persons to submit comments. Persons submitting comments should include their names and addresses, identify this document (USCG 2003-15169), and give the reasons for the comments. Please submit all comments and attachments in an unbound format no larger than 8½ by 11 inches, suitable for copying and electronic filing. Persons wanting acknowledgment of receipt of comments should enclose stamped self-addressed postcards or envelopes.

Information Collection Requests

1. Title: Declaration of Inspection Before Transfer of Liquid Cargo in Bulk.

OMB Control Number: 1625-0039.

Summary: A Declaration of Inspection (DOI) documents the transfer of oil and hazardous materials, to help prevent spills and damage to a facility or vessel. Persons in charge of transfers must review and certify compliance with procedures specified by the terms of the DOI.

Need: 33 U.S.C. 1221 authorizes the Coast Guard to establish rules to prevent the discharge of oil and hazardous material from vessels and facilities. The rules for DOIs appear at 33 CFR 156.150 and 46 CFR 35.35-30.

Respondents: Persons in charge of transfers.

Frequency: On occasion.

Burden: The estimated burden is 66,223 hours a year.

2. Title: Plan Approval and Records for Tank, Passenger, Cargo, and Miscellaneous Vessels, Mobile Offshore Drilling Units, Nautical School Vessels, Oceanographic Research Vessels, and Electrical Engineering—46 CFR Subchapters D, H, I, I-A, J, R, and U.

OMB Control Number: 1625-0038.

Summary: This information collected requires the shipyard, designer, or manufacturer for the construction of a vessel to submit plans, technical information, and operating manuals to the Coast Guard.

Need: Under 46 U.S.C. 3301 and 3306, the Coast Guard is responsible for enforcing rules promoting the safety of life and property in marine transportation. The Coast Guard uses this information to ensure that a vessel meets the applicable standards for construction, arrangement, and equipment.

Respondents: Shipyards, designers, and manufacturers of certain vessels.

Frequency: On occasion.

Burden: The estimated burden is 8,835 hours a year.

3. Title: Vessel Response Plans, Facility Response Plans, Shipboard Oil Pollution Emergency Plans, and Additional Response Requirements for Prince William Sound.

OMB Control Number: 1625-0066.

Summary: The Oil Pollution Act of 1990 (OPA 90) required the development of Vessel and Facility Response Plans to minimize the impact of oil spills. It required added measures for Prince William Sound. About the same time, the treaty known in short as Marpol required Shipboard Oil Pollution Emergency Plans of other vessels to minimize impacts of oil spills.

Need: This information ensures that vessels and facilities are prepared to respond in event of oil spills. The Coast Guard will review the Plans and measures to assess their effectiveness.

Respondents: Owners and operators of vessels and facilities.

Frequency: On occasion.

Burden: The estimated burden is 137,199 hours a year.

4. Title: Certificate of Discharge to Merchant Mariners.

OMB Control Number: 1625-0012.

Summary: The information collected requires a master or mate of a shipping company to submit information on merchant mariners to the Coast Guard that: (1) Establishes their sea-service time; (2) sets forth their qualifications for their original, or for upgrading their existing, merchant-mariner credentials; and (3) sets forth their qualifications for retirement or insurance benefits.

Need: Under 46 U.S.C. 10311, the information collected shows eligibility for merchant mariners' documents and tells the Maritime Administration the availability of mariners in a time of national emergency.

Respondents: Masters or mates of shipping companies and merchant mariners.

Frequency: On occasion.

Burden: The estimated burden is 4,500 hours a year.

Dated: May 19, 2003.
Nathaniel S. Heiner,
Acting, Director of Information and Technology.

[FR Doc. 03-13185 Filed 5-27-03; 8:45 am]

BILLING CODE 4910-15-P